DEPARTMENT OF STATE

[Public Notice: 12748]

Advisory Committee on Historical Diplomatic Documentation—Notice of Meeting Cancellation

SUMMARY: The June 9-10 meetings of the Advisory Committee on Historical Diplomatic Documentation is cancelled. The Department will make a decision about the September meeting at a later time.

FOR FURTHER INFORMATION CONTACT: Ashley Schofield, Business Operations Manager, Office of the Historian, Foreign Service Institute, U.S. Department of State (email: schofieldam@state.gov, telephone: 771-205-5663).

(Authority: 5 U.S.C. 1001 et seq. and 22 U.S.C. 2651a)

Dated: June 17, 2025.
John C. Powers,
Acting Executive Secretary, Advisory Committee on Historical, Diplomatic Documentation.

[FR Doc. 2025-11356 Filed 6-18-25; 8:45 am]

BILLING CODE 4710-34-P